DEPARTMENT OF THE INTERIOR

National Park Service

Concession Contracts and Permits: Expiring Contracts; Extension

AGENCY: National Park Service, Interior.

ACTION: Public notice.

SUMMARY: Pursuant to 36 CFR 51.23, public notice is hereby given that the National Park Service proposes to extend the following expiring concession contracts for a period of up to 2 years, or until such time as a new contract is executed, whichever occurs sooner.

SUPPLEMENTARY INFORMATION: All of the listed concession authorizations will expire by their terms on or before December 31, 2005. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Conc ID No. | Concessioner name | Park
GLBA002-00 | Holland America Line, Inc | Glacier Bay National Park & Pres.
GLBA003-00 | Princess Cruises, Inc | Glacier Bay National Park & Pres.
GLBA004-00 | P&O, Inc. (Princess Cruises) | Glacier Bay National Park & Pres.
GLBA005-00 | Holland America Line-Westours, Inc | Glacier Bay National Park & Pres.
GLBA006-00 | World Explorer Cruises | Glacier Bay National Park & Pres.
GLBA007-00 | NCL Cruises Ltd. (Norwegian Cruise Line) | Glacier Bay National Park & Pres.
GLBA036-00 | Crystal Cruises, Inc | Glacier Bay National Park & Pres.
GLBA046-00 | Celebrity Cruises, Inc | Glacier Bay National Park & Pres.
GLBA050-00 | Carnival Cruise Line | Glacier Bay National Park & Pres.
GLBA040-00 | West Travel, Inc. (Cruise West) | Glacier Bay National Park & Pres.
WRST001-98 | Daniel R. Schwarzer (AAA Alaskan Outfitters, Inc.) | Wrangell-St. Elias NPres.
WRST002-98 | Mel Gillis (Alaska Trophy Hunting & Fishing) | Wrangell-St. Elias NPres.
WRST003-98 | W. Kirk Ellis (Devils Mtn Guiding Service) | Wrangell-St. Elias NPres.
WRST004-98 | W. Cole Ellis (Ellis Big Game Guides and Outfitters) | Wrangell-St. Elias NPres.
WRST005-98 | Dick Gunlogson | Wrangell-St. Elias NPres.
WRST006-98 | Robert Fithian (Alaskan Mountain Guides) | Wrangell-St. Elias NPres.
WRST007-98 | Mark Collins (Jungles, Deserts & Mountains) | Wrangell-St. Elias NPres.
WRST009-98 | Lorene Ellis (Nabesna Glacier Guide Service) | Wrangell-St. Elias NPres.
WRST010-98 | Matt Owen (Northern Air Trophy) | Wrangell-St. Elias NPres.
WRST011-98 | Terry Overly (Pioneer Outfitters) | Wrangell-St. Elias NPres.
WRST012-98 | Urban E. Rahoi (Ptarmigan Lake Lodge) | Wrangell-St. Elias NPres.
WRST013-98 | Thomas Vaden (Solo Creek Guides) | Wrangell-St. Elias NPres.
WRST014-98 | John Claus (Ultima Thule Outfitters) | Wrangell-St. Elias NPres.
WRST015-98 | Paul Claus (Ultima Thule Outfitters) | Wrangell-St. Elias NPres.
WRST016-98 | Richard G. Petersen (Wrangell Outfitters) | Wrangell-St. Elias NPres.
WRST017-98 | Chuck McMahan (Gakona Guide Service) | Wrangell-St. Elias NPres.

DATES: Effective Date: January 1, 2006.

FOR FURTHER INFORMATION CONTACT: Jo A. Pendry, Concession Program Manager, National Park Service, Washington, DC 20240, Telephone 202/513-7156.

Dated: December 15, 2005.
Alfred J. Poole, III,
Acting Assistant Director, Business Services.

[FR Doc. 06-20 Filed 1-3-06; 8:45 am]

BILLING CODE 4312-53-M